DEPARTMENT OF THE INTERIOR

National Park Service

[NPS-WASO-NRNHL-0511-7499;] 2280-665]

National Register of Historic Places; Notification of Pending Nominations and Related Actions

Nominations for the following properties being considered for listing or related actions in the National Register were received by the National Park Service before May 14, 2011. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington DC 20005; or by fax, 202-371-6447. Written or faxed comments should be submitted by June 23, 2011. Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places, National Historic Landmarks Program.

ALABAMA

Jefferson County

Southside Historic District (Boundary Increase), 2800 University Blvd., parts of 4th—7th Aves. S., 22nd—32nd Sts. S., Birmingham, 11000374

Madison County

Lowe Mill and Mill Village Historic District, Triana Blvd. SW., 10th Ave. SW., Summer St. & Governor's Dr., Huntsville, 11000375

CONNECTICUT

Fairfield County

Gallaher Estate, 300 Grumman Ave., Norwalk, 11000376

DISTRICT OF COLUMBIA

District of Columbia

Burrows, Hilleary T., House, (American University Park in Washington, DC: Its Early Houses, Pre-Civil War to 1911 MPS) 4520 River Rd., NW., Washington, 11000377

Burrows, Samuel and Harriet, House, (American University Park in Washington, DC: Its Early Houses, Pre-Civil War to 1911 MPS) 4624 Verplanck Pl., NW., Washington, 11000378

Chappell, N. Webster, House, (Tenleytown in Washington, DC: 1770-1941, MPS) 4131 Yuma St., NW., Washington, 11000379

Stone, Robert and Lillie May, House, (American University Park in Washington, DC: Its Early Houses, Pre-Civil War to 1911 MPS) 4901 47th St., NW., Washington, 11000380

Walde—Carter House, (American University Park in Washington, DC: Its Early Houses, Pre-Civil War to 1911 MPS) 4628 48th St., NW., Washington, 11000381

FLORIDA

Jefferson County

Girardeau House, 950 E. Washington St., Monticello, 11000382

INDIANA

Lake County

Maack, Albert, House, 498 Court St., Crown Point, 11000383

Marion County

Gramse, The, 2203 Broadway St., Indianapolis, 11000384

Indianapolis White Castle Number 3, 660 Fort Wayne Ave., Indianapolis, 11000385

Porter County

Bloch, Conrad and Catherine, House, 608 Academy St., Valparaiso, 11000386

Putnam County

Eastern Enlargement Historic District, Roughly bounded by E. Franklin, Wood, Anderson & College Sts., Greencastle, 11000387

Northwood Historic District, (Historic Residential Suburbs in the United States, 1830-1960 MPS) Roughly bounded by Shadowlawn, N. Arlington, E. Franklin & Hillsdale Aves., Greencastle, 11000388

Old Greencastle Historic District, Roughly bounded by W. Liberty, Market, W. Poplar & W. Gillespie Sts., Greencastle, 11000389

Wabash County

East Wabash Historic District, Roughly bounded by Walnut, E. Market, N. Wabash & S. East Sts., Wabash, 11000390

IOWA

Harrison County

I.O.O.F. Hall, 613-615 Iowa Ave., Dunlap, 11000391

Pottawattamie County

Hughes—Irons Motor Company, 149-161 W. Broadway, Council Bluffs, 11000392

Warren County

Hoosier Row School, 15246 Cty. Rd. R63, Indianola, 11000393

KANSAS

Sedgwick County

Broom Corn Warehouse, 416 S. Commerce, Wichita, 11000394

Farmer, J.E., House, (African American Resources in Wichita, Kansas MPS) 1301 Cleveland, Wichita, 11000395

McClinton Market, (African American Resources in Wichita, Kansas MPS) 1205 E 12th., Wichita, 11000396

LOUISIANA

Calcasieu Parish

1937 Iowa High School, 215 S. Kinney Ave., Iowa, 11000397

East Baton Rouge Parish

Campbell Apartment Building, 528 E. State St., Baton Rouge, 11000398

MISSOURI

Jackson County

Town of Kansas Site, (Railroad Related Historic Commercial and Industrial Resources in Kansas City, Missouri MPS) Address Restricted, Kansas City, 11000399

Miller County

Union Electric Administration Building—Lakeside (Boundary Increase), 1 Willmore Ln., Lakeside, 11000400

NEW YORK

Herkimer County

Frankfort Hill District Number 10 School, 2235 Albany Rd., Frankfort Hill, 11000401

Lewis County

Stoddard—O'Connor House, 5431 Shady Ave., Lowville, 11000402

Wildwood Cemetery and Mary Lyon Fisher Memorial Chapel, River Rd., Lyons Falls, 11000403

OREGON

Jackson County

Hatch, Charles and Elizabeth, House, 199 1st St., Rogue River, 11000404

SOUTH CAROLINA

Hampton County

Hampton County Jail, 702 1st St., W., Hampton, 11000405

[FR Doc. 2011-14052 Filed 6-7-11; 8:45 am]

BILLING CODE 4312-51-P